DEPARTMENT OF DEFENSE

Office of the Secretary

[Docket ID DOD-2009-OS-0085]

Privacy Act of 1974; Systems of Records

AGENCY: Defense Logistics Agency, DoD.

ACTION: Notice to Delete a System of Records.

SUMMARY: The Defense Logistics Agency is deleting a system of records notice in its existing inventory of record systems subject to the Privacy Act of 1974 (5 U.S.C. 552a), as amended.

DATES: This action will be effective without further notice on August 19, 2009 unless comments are received that would result in a contrary determination.

ADDRESSES: Chief Privacy and FOIA Officer, Headquarters Defense Logistics Agency, ATTN: DGA, 8725 John J. Kingman Road, Suite 1644, Fort Belvoir, VA 22060-6221

FOR FURTHER INFORMATION CONTACT: Mr. Lewis Oleinick at (703) 767-6194.

SUPPLEMENTARY INFORMATION: The Defense Logistics Agency notices for systems of records subject to the Privacy Act of 1974 (5 U.S.C. 552a), as amended, have been published in the Federal Register and are available from the address above.

The Defense Logistics Agency is proposing to delete a system of records notice in its existing inventory of record systems subject to the Privacy Act of 1974 (5 U.S.C. 552a), as amended. The proposed deletion is not within the purview of subsection (r) of the Privacy Act of 1974, (5 U.S.C. 552a), as amended, which requires the submission of a new or altered system report.

Dated: July 13, 2009.
Morgan E. Frazier,
Alternate OSD Federal Register Liaison Officer, Department of Defense.

S434.15 DLA-C

SYSTEM NAME:

Automated Payroll Cost and Personnel System (APCAPS).

REASON:

Records are now covered under the DFAS Privacy notice T7205a, entitled “Defense Business Management System (DBMS)” published July 2, 2009, at 74 FR 31711.

[FR Doc. E9-17152 Filed 7-17-09; 8:45 am]

BILLING CODE 5001-06-P